ENVIRONMENTAL PROTECTION AGENCY

[FRL-6860-5]

Clean Air Act Advisory Committee Notice of Meeting

SUMMARY: The Environmental Protection Agency (EPA) established the Clean Air Act Advisory Committee (CAAAC) on November 19, 1990, to provide independent advice and counsel to EPA on policy issues associated with implementation of the Clean Air Act of 1990. The Committee advises on economic, environmental, technical scientific, and enforcement policy issues.

Open Meeting Notice: Pursuant to 5 U.S.C. App. 2 Section 10(a)(2), notice is hereby given that the Clean Air Act Advisory Committee will hold its next open meeting on Friday, September 22, 2000, from approximately 8:30 a.m. to 3:30 p.m. at the Radisson Hotel, 11 East Kellogg Blvd., Saint Paul, Minnesota. Seating will be available on a first come, first served basis. Three of the CAAAC's Subcommittees (Linking Energy, Land Use, Transportation, and Air Quality Concerns Subcommittee; the Permits/NSR/Toxics Integration Subcommittee; and the Energy, Clean Air and Climate Change Subcommittee) will hold meetings on Thursday, September 21, 2000 from approximately 8:30 a.m. to 11:30 a.m. at the Radisson Hotel, the same location as the full Committee.

In addition, there will be an awards ceremony for recipients of the Year 2000 Clean Air Excellence Awards. The ceremony, which is open to the public, will be held at the Science Museum of Minnesota, Saint Paul, Minnesota from approximately 5:30 p.m. to 8:30 p.m.

Inspection of Committee Documents: The Committee agenda and any documents prepared for the meeting will be publicly available at the meeting. Thereafter, these documents, together with CAAAC meeting minutes, will be available by contacting the Office of Air and Radiation Docket and requesting information under docket item A-94-34 (CAAAC). The Docket office can be reached by telephoning 202-260-7548; FAX 202-260-4400.

FOR FURTHER INFORMATION CONTACT: Concerning this meeting of the full CAAAC, please contact Paul Rasmussen, Office of Air and Radiation, US EPA (202) 564-1306, FAX (202) 564-1352 or by mail at US EPA, Office of Air and Radiation (Mail code 6102 A), 1200 Pennsylvania Avenue, N.W., Washington, DC 20004. For information on the Subcommittee meetings, please contact the following individuals: Energy, Clean Air and Climate Change—Jeanne Briskin, 202-564-9135; Permits/NSR/Toxics Integration—Debbie Stackhouse, 919-541-5354; and Linking Transportation, Land Use and Air Quality Concerns—Lucie Audette, 734-668-4438.

Additional information on these meetings and the CAAAC and its Subcommittees can be found on the CAAAC Web Site: www.epa.gov/oar/caaac/

Dated: August 24, 2000.
Robert Brenner,
Acting Assistant Administrator for Air and Radiation.

[FR Doc. 00-22160 Filed 8-29-00; 8:45 am]

BILLING CODE 6560-50-M